DEPARTMENT OF ENERGY

Federal Energy Regulatory Commission

[Questar Pipeline Company; Docket No. CP00-68-000]

Notice of Application

January 18, 2000.

Take notice that on January 10, 2000, Questar Pipeline Company (Questar), 180 East 100 South, Salt Lake City, Utah 84111, filed in Docket No. CP00-68-000 an application pursuant to Section 7(c) of the Natural Gas act (NGA), for authorization to construct and operate pipeline and compression facilities in Utah, in order to increase the capacity of its system, all as more fully set forth in the application on file with the Commission and open to public inspection. This filing may be viewed on the web at http://www.ferc.fed.us/online/htm (call 202-208-2222 for assistance).

Specifically, Questar proposes to construct and operate a 24-inch diameter loop of an existing section of its Main Line (M.L.) No. 40 and the entirety of its M.L. No. 41. Questar states that the loop, to be known as M.L. No. 104, will extend approximately 75.6 miles from Price, Utah, to the Payson, Utah, City Gate and on to an interconnection with Kern River Gas Transmission company (Kern River) located near Elberta, Utah. It is explained that the loop will be located in Carbon, Emery, Sanpete and Utah Counties, Utah. In addition, Questar proposes to add 9,336 site-rated horsepower of compression at Questar's existing Oak Spring Compressor station, near Price, Utah.

Questar states that the reason for the proposed construction is to expand the capacity of its southern transmission system in order to gain access to increasing reserves of coal-seam gas reserves in the Price area, and to satisfy increased transportation demand. It is asserted that M.L. Nos. 40 and 41 are currently operating near maximum capacity. It is further asserted that the proposed looping and compression will add approximately 272,000 Dt equivalent of incremental capacity to Questar's southern transmission system. In addition to transporting gas from the Price area, Questar explains that it has entered into an agreement with CIG Resources Company to transport volumes delivered to Questar from Colorado Interstate Gas Company's Uinta Basin Lateral at Natural Buttes in Uinta County, Utah.

Questar states that once the proposed project is placed in service, Questar will sell a 50 percent interest to CIG Gas Supply Company (Supply) and then lease back the 50 percent interest to give Questar control over the facilities. It is explained that the sale/leaseback arrangement will enhance both companies' ability to meet market needs most efficiently. Questar explains that it will retain the right to re-purchase Supply's 50 percent interest at net book value.

The cost of the proposed construction is estimated at $80,850,975, including pipeline looping and compression facilities. Questar requests rolled-in rate treatment for the costs associated with the project, stating that the project is in accordance with the Commission's recent policy statement issued in PL99-3-000.

Questar asserts that it conducted an open season between December 28, 1998, and February 23, 1999, to determine market demand and asserts that the result was that Questar has executed firm transportation service contracts with three customers (CIG Resources Company, Questar Gas Company, and Texaco Natural Gas, Inc.) for a total of 270,000 Dt equivalent of reserved daily capacity with contract terms ranging from 5 to 10 years.

Any questions regarding the application may be directed to Alan K. Allred, Manager, Regulatory Affairs and Gas Supply Services, Questar Regulated Services Company, 180 East 100 South, P.O. Box 43560, Salt Lake City, Utah 84145-0360, (801) 324-5768.

Any person desiring to be heard or to make any protest with reference to said application should on or before February 8, 2000, file with the Federal Energy Regulatory Commission, 888 First Street, NE., Washington, DC 20426, a motion to intervene or a protest in accordance with the requirements of the Commission's Rules of Practice and Procedure (18 CFR 385.214 or 385.211) and the Regulations under the Natural Gas Act (18 CFR 157.10). All protests filed with the Commission will be considered by it in determining the appropriate action to be taken but will not serve to make the protestants parties to the proceeding. Any person wishing to become a party to a proceeding or to participate as a party in any hearing therein must file a motion to intervene in accordance with the Commission's Rules.

Take further notice that, pursuant to the authority contained in, and subject to the jurisdiction conferred upon the Commission by sections 7 and 15 of the Natural Gas Act and the Commission's Rules of Practice and Procedures, a hearing will be held without further notice before the Commission or its designee on this application if no motion to intervene is filed within the time required herein and if the Commission, on its own review of the matter, finds that a grant of the certificate is required by the public convenience and necessity. If a motion for leave to intervene is timely filed, or if the Commission on its own motion believes that a formal hearing is required, further notice of such hearing will be duly given.

Under the procedure herein provided for, unless otherwise advised, it will be unnecessary for Questar to appear, or be represented, at the hearing.

David P. Boergers,
Secretary.

[FR Doc. 00-1581 Filed 1-21-00; 8:45 am]

BILLING CODE 6717-01-M